DEPARTMENT OF EDUCATION

Submission for OMB Review; Comment Request

AGENCY: Department of Education.

SUMMARY: The IC Clearance Official, Regulatory Information Management Services, Office of Management invites comments on the submission for OMB review as required by the Paperwork Reduction Act of 1995.

DATES: Interested persons are invited to submit comments on or before October 3, 2008.

ADDRESSES: Written comments should be addressed to the Office of Information and Regulatory Affairs, Attention: Education Desk Officer, Office of Management and Budget, 725 17th Street, NW., Room 10222, Washington, DC 20503. Commenters are encouraged to submit responses electronically by e-mail to oira_submission@omb.eop.gov or via fax to (202) 395-6974. Commenters should include the following subject line in their response “Comment: [insert OMB number], [insert abbreviated collection name, e.g., “Upward Bound Evaluation”]. Persons submitting comments electronically should not submit paper copies.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The IC Clearance Official, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

Dated: August 27, 2008.
Angela C. Arrington,
IC Clearance Official, Regulatory Information Management Services, Office of Management.

Office of Elementary and Secondary Education

Type of Review: Revision.

Title: Consolidated State Performance Report (Part I and Part II).

Frequency: Annually.

Affected Public: State, Local, or Tribal Gov't, SEAs or LEAs.

Reporting and Recordkeeping Hour Burden:

Responses: 53.

Burden Hours: 29,707.

Abstract: The Consolidated State Performance Report (CSPR) is the required annual reporting tool for each State, Bureau of Indian Education, District of Columbia, and Puerto Rico as authorized under Section 9303 of the Elementary and Secondary Education Act (ESEA), as amended by the No Child Left Behind Act of 2001 (NCLB). The Department uses the information derived from the CSPR to: (1) Monitor and report its progress in meeting Strategic Plan goals; (2) assess and report individual program performance, including GPRA performance measures; (3) monitor States' implementation of NCLB and the extent to which States are meeting program and accountability goals; (4) to identify areas for technical assistance to States and overall program improvement; and (5) to inform other reporting and program evaluation requirements specific to individual programs and including the Secretary's Annual State Report to Congress on No Child Left Behind. The current approved CSPR (OMB #1810-0614) will expire on October 31, 2010. This submission requests approval to include new or substantially revised questions in Sections 1.2, 1.3, 1.4 and 1.6 of CSPR Part I, and section 2.2 of CSPR Part II. The additions and revisions to the CSPR are necessary at this time to: (1) meet new NCLB data collection requirements for School Improvement Grants (Section 1003(a) and 1003(b)) and science assessments (1111(b)(3)) implemented in SY 07-08, and (2) more accurately reflect the data requirements in 1111(h)(4)(D) and section 3121(b)(1) for evaluation; and (3) align Title I, Part B student performance measures with existing collections.

Additional Information: During the 60-day public comment period, ED received comments on the new and/or substantially revised items added to the CSPR for SY 2007-08 from 9 States. Public comments and ED's responses are detailed in a supplemental document to the SY 2007-08 CSPR currently pending approval from OMB. In addition, during the 60-day comment period, 15 States submitted comments in response to a focused question intended to help the Department determine the viability of moving any or all of the CSPR questions, which were initially prepopulated in 2006-07 to exclusive population by EDFacts for 2007-08 or 2008-09. Based on the responses to the focused question, along with ED's review of SEA transition agreements, ED has determined that it will not move any additional items to full population from EDFacts for the CSPR SY 2007-08 collection. ED will work with the States over the next several months to determine which items will be fully populated by EDFacts for the SY 2008-09 and subsequent CSPR collections. The SY 2007-08 CSPR & EDFacts Cross-walk, linking EDFacts data files to CSPR questions is included in the CSPR clearance package. Technical Amendments for SY 08-09 EDFacts Data Set related to the new CSPR questions in Section 1.4.8 on School Improvement Status also are included in the CSPR SY 2007-08 clearance documents.

Requests for copies of the information collection submission for OMB review may be accessed from http://edicsweb.ed.gov, by selecting the “Browse Pending Collections” link and by clicking on link number 3718. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. E8-20359 Filed 9-2-08; 8:45 am]

BILLING CODE 4000-01-P